DEPARTMENT OF THE INTERIOR

Bureau of Land Management

[NV-910-03-0777-30]

Notice of public meeting, Northeastern Great Basin Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below.

DATES: The meeting includes a field tour on December 5, 2002 departing the BLM Elko Field Office, 3900 East Idaho Street, Elko, Nevada, at 1 p.m. and returning at 5 p.m. The business meeting will be held December 6, 2002 at the BLM Elko Field Office beginning at 9 a.m. The public comment period will begin at approximately 1 p.m. and the meeting will adjourn approximately 5 p.m.

FOR FURTHER INFORMATION CONTACT: Mike Brown, Public Affairs Officer, Elko Field Office, 3900 E. Idaho Street, Elko, NV 89801. Telephone: (775) 753-0386. E-mail: mbrown@nv.blm.gov.

SUPPLEMENTARY INFORMATION: The 15-member Council advises the Secretary of the Interior, through the Bureau of Land Management, on a variety of planning and management issues associated with public land management in Nevada. The field tour will visit the Conner's Creek and focus on livestock management and restoration issues. In the event of inclement weather, the tour will visit the Maggie Creek area and focus on mining and restoration issues. At the business meeting, topics we plan to discuss include:

Off-Highway Vehicle Final Guidelines,

Vegetation Draft Guidelines,

Mining Update,

California National Historic Trail Interpretive Center,

Coordinated Noxious Weed Treatments,

Field Managers' and District Rangers' Reports,

Other topics the Council may raise.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact Mike Brown, BLM Elko Field Office, 3900 East Idaho Street, Elko, Nevada 89801, telephone (775) 753-0386.

Dated: October 23, 2002.
David Stout,
Associate Field Manager.

[FR Doc. 02-27556 Filed 10-29-02; 8:45 am]

BILLING CODE 4310-HC-P